DEPARTMENT OF VETERANS AFFAIRS

Advisory Committee on Disability Compensation, Notice of Meeting

The Department of Veterans Affairs (VA) gives notice under the Federal Advisory Committee Act, 5 U.S.C. App. 2, that the Advisory Committee on Disability Compensation (Committee) will meet on October 20-21, 2014, at the U.S. Department of Veterans Affairs, 810 Vermont Avenue NW., Washington, DC 20420. The Committee will meet in Room 730 on October 20, 2014, and Room 630 on October 21, 2014. The sessions will begin at 8:00 a.m. and end at 5:00 p.m. on both days. The meeting is open to the public.

The purpose of the Committee is to advise the Secretary of Veterans Affairs on the maintenance and periodic readjustment of the VA Schedule for Rating Disabilities. The Committee is to assemble and review relevant information relating to the nature and character of disabilities arising during service in the Armed Forces, provide an ongoing assessment of the effectiveness of the rating schedule, and give advice on the most appropriate means of responding to the needs of Veterans as related to disability compensation.

The Committee will receive briefings on issues related to compensation for Veterans with service-connected disabilities and other VA benefits programs. Time will be allocated to receive public comments. Public comments will be limited to three minutes each. Individuals wishing to make oral statements before the Committee will be accommodated on a first-come, first-served basis. Individuals who speak are invited to submit 1-2 page summaries of their comments at the time of the meeting for inclusion in the official meeting record. Written statement can also be submitted for the Committee's review to Nancy Copeland, Designated Federal Officer, Department of Veterans Affairs, Veterans Benefits Administration, Compensation Service, Regulation Staff (211D), 810 Vermont Avenue NW., Washington, DC 20420 or email at nancy.copeland@va.gov.

Any member of the public wishing to attend the meeting should allow at least 15 minutes prior to the start of the meeting in order to clear security. As this is a government building, all individuals will be required to present photo identification to the Security Guard station at the entrance of the building, in order to gain access. To facilitiate an easier clearance of security, all individuals planning to attend the meeting should email Nancy Copeland or contact her at (202) 461-9685. Alternatively, please contact Brendan Sheedy at brendan.sheedy@va.gov or (202) 461-9297. Questions about the meeting may also be directed to these two points of contact.

Dated: October 2, 2014.
Jelessa Burney,
Federal Advisory Committee Management Officer.

[FR Doc. 2014-23888 Filed 10-6-14; 8:45 am]

BILLING CODE 8320-01-P